DEPARTMENT OF TRANSPORTATION

Federal Aviation Administration

RTCA Special Committee 159; Minimum Operational Performance Standards for Airborne Navigation Equipment Using Global Positioning System (GPS)

Pursuant to section 10(a)(2) of the Federal Advisory Committee Act (Pub. Law 92-463, 5 U.S.C., Appendix 2), notice is hereby given for a Special Committee 159 meeting to be held June 12-16, 2000, starting at 9:00 a.m. each day. The meeting will be held at RTCA, 1140 Connecticut Avenue, NW., Washington, DC 20036.

The agenda will be as follows:

Specific Working Group Sessions: June 12: Working Group 1, Third Civil Frequency. June 13: Working Group 6, GPS/Interference; Working Group 2C, GPS/Inertial. June 14: 9 a.m.-12 p.m., Working Group 4, Precision Landing Guidance (GPS/LAAS); Working Group 6, Interference; 1:30 p.m.-4:30 p.m., SC-159 Ad Hoc, Recommendation Support. June 15: Working Group 2, GPS/WAAS; Working Group 4, Precision Landing Guidance (LAAS).

June 16: Plenary Session: (1) Chairman's Introductory Remarks; (2) Approve Summary of Previous Meeting; (3) Review Working Group (WG) Progress and Identify Issues for Resolution: (a) GPS/3rd Civil Frequency (WG-1); (b) GPS/WAAS (WG-2); (c) GPS/GLONASS (WG-2A); (d) GPS/Inertial (WG-2C); (e) GPS/Precision Landing Guidance (WG-4); (f) GPS/Airport Surface Surveillance (WG-5); (g) GPS Interference (WG-6); (h) SC-159 Ad Hoc; (4) Review of EUROCAE Activities; (5) Review/Approve Final Draft, NAVSTAR GPS L5 Civil Signal Specification; (6) Review/Approve Final Draft, SC-159 Response to the Johns Hopkins University Applied Physics Laboratory Recommendation Regarding Receiver Autonomous Integrity Monitoring; (7) Assignment/Review of Future Work; (8) Other Business; (9) Date and Location of Next Meeting; (10) Closing.

Attendance is open to the interested public but limited to space availability. With the approval of the chairman, members of the public may present oral statements at the meeting.

Persons wishing to present statements or obtain information should contact the RTCA Secretariat, at (202) 833-9339 (phone), (202) 833-9434 (fax). Members of the public may present a written statement to the committee at any time.

Issued in Washington, DC, on May 18, 2000.
Janice L. Peters,
Designated Official.

[FR Doc. 00-13182 Filed 5-24-00; 8:45 am]

BILLING CODE 4910-13-M